DEPARTMENT OF HOMELAND SECURITY

Coast Guard

33 CFR Parts 100, 117, and 165

[USCG-2011-0874]

Quarterly Listings; Safety Zones, Security Zones, Special Local Regulations, Drawbridge Operation Regulations and Regulated Navigation Areas

AGENCY: Coast Guard, DHS.

ACTION: Notice of expired temporary rules issued.

SUMMARY: This document provides required notice of substantive rules issued by the Coast Guard and temporarily effective between March 2010 and July 2011, that expired before they could be published in the Federal Register. This notice lists temporary safety zones, security zones, special local regulations, drawbridge operation regulations and regulated navigation areas, all of limited duration and for which timely publication in the Federal Register was not possible.

DATES: This document lists temporary Coast Guard rules between March 1, 2010 and July 23, 2011 that became effective and were terminated before they could be published in the Federal Register.

ADDRESSES: The Docket Management Facility maintains the public docket for this notice. Documents indicated in this notice will be available for inspection or copying at the Docket Management Facility (M-30), U.S. Department of Transportation, West Building ground floor, Room W12-140, 1200 New Jersey Avenue SE., Washington, DC 20590 between 9 a.m. and 5 p.m., Monday through Friday, except federal holidays.

FOR FURTHER INFORMATION CONTACT: For questions on this notice contact Yeoman First Class Marcus Hyde, Office of Regulations and Administrative Law, telephone (202) 372-3862. For questions on viewing, or on submitting material to the docket, contact Ms. Angie Ames, Docket Operations, telephone (202) 366-5115.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Drawbridge operation regulations authorize changes to drawbridge schedules to accommodate bridge repairs, seasonal vessel traffic, and local public events. Regulated Navigation Areas are water areas within a defined boundary for which regulations for vessels navigating within the area have been established by the regional Coast Guard District Commander.

Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these safety zones, security zones, special local regulations, regulated navigation areas or drawbridge operation regulations by Coast Guard officials on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated. The temporary rules listed in this notice have been exempted from review under Executive Order 12666, Regulatory Planning and Review, because of their emergency nature, or limited scope and temporary effectiveness.

The following unpublished rules were placed in effect temporarily during the period between March 2010 and July 2011 unless otherwise indicated.

Dated: November 2, 2011.
K.A. Sinniger,
Chief, Office of Regulations and Administrative Law.

1st-2nd Quarter 2011 Listing
Docket No. | Location | Type | Effective date
USCG-2009-1007 | Quillayute River | Safety Zone (Part 165) | 3/1/2010
USCG-2010-0424 | Memphis, TN | Special Local Regulation (Part 100) | 4/16/2011
USCG-2010-0563 | Washington, DC | Safety Zone (Part 165) | 6/19/2011
USCG-2010-0564 | Philadelphia, PA | Security Zone (Part 165) | 11/14/2010
USCG-2010-0565 | Norfolk, VA | Safety Zone (Part 165) | 5/3/2011
USCG-2010-0828 | Biloxi, MS | Safety Zone (Part 165) | 3/17/2011
USCG-2010-0829 | Pascagoula, MS | Safety Zone (Part 165) | 2/6/2011
USCG-2010-0939 | Vancouver, WA | Safety Zone (Part 165) | 1/27/2011
USCG-2010-0940 | Seattle, WA | Safety Zone (Part 165) | 4/19/2011
USCG-2010-0941 | Wauna, OR | Safety Zone (Part 165) | 4/23/2011
USCG-2010-0942 | Tacoma, WA | Safety Zone (Part 165) | 4/26/2011
USCG-2010-0943 | Seattle, WA | Safety Zone (Part 165) | 7/7/2011
USCG-2010-0987 | St. Petersburg, FL | Safety Zone (Part 165) | 11/20/2010
USCG-2010-0992 | Saugus, MA | Safety Zone (Part 165) | 5/21/2011
USCG-2010-1000 | Port Everglades, FL | Security Zone (Part 165) | 11/13/2010
USCG-2010-1031 | Miami, FL | Security Zone (Part 165) | 12/30/2010
USCG-2010-1037 | Lake Havasu City, AZ | Safety Zone (Part 165) | 4/30/2011
USCG-2010-1048 | Tennessee River | Safety Zone (Part 165) | 11/26/2010
USCG-2010-1049 | Marco Island, FL | Safety Zone (Part 165) | 11/20/2010
USCG-2010-1068 | Wilmington, DE | Safety Zone (Part 165) | 11/23/2010
USCG-2010-1069 | St. Petersburg, FL | Safety Zone (Part 165) | 11/31/10
USCG-2010-1075 | Clearwater, FL | Safety Zone (Part 165) | 12/30/2010
USCG-2010-1092 | San Diego, FL | Safety Zone (Part 165) | 2/12/2011
USCG-2010-1095 | Madeira Beach, FL | Safety Zone (Part 165) | 3/16/2011
USCG-2010-1131 | Port Valdez, AK | Safety Zone (Part 165) | 12/31/2010
USCG-2011-0007 | Lake Havasu City, AZ | Safety Zone (Part 165) | 3/19/2011
USCG-2011-0011 | Baltimore, MD | Security Zone (Part 165) | 1/13/2011
USCG-2011-0019 | Lower Mississippi River | Safety Zone (Part 165) | 1/9/2011
USCG-2011-0020 | Parker, Arizona | Safety Zone (Part 165) | 4/15/2011
USCG-2011-0021 | Parker, Arizona | Safety Zone (Part 165) | 4/30/2011
USCG-2011-0022 | Oceanside, CA | Safety Zone (Part 165) | 4/2/2011
USCG-2011-0027 | Cambridge, MD | Security Zone (Part 165) | 1/20/2011
USCG-2011-0028 | Washington, DC | Security Zone (Part 165) | 1/25/2011
USCG-2011-0032 | San Diego, CA | Security Zone (Part 165) | 2/8/2011
USCG-2011-0045 | Willamette Rivers | Security Zone (Part 165) | 1/28/2011
USCG-2011-0059 | Parker, AZ | Special Local Regulation (Part 100) | 3/12/2011
USCG-2011-0060 | San Diego, CA | Security Zone (Part 165) | 2/6/2011
USCG-2011-0061 | Gulfport, MS | Safety Zone (Part 165) | 5/19/2011
USCG-2011-0069 | San Diego, CA | Security Zone (Part 165) | 2/12/2011
USCG-2011-0072 | Key Largo, FL | Security Zone (Part 165) | 2/17/2011
USCG-2011-0073 | Fort Lauderdale, FL | Safety Zone (Part 165) | 4/9/2011
USCG-2011-0077 | Matlacha, FL | Safety Zone (Part 165) | 3/8/2011
USCG-2011-0078 | San Diego, CA | Safety Zone (Part 165) | 2/12/2011
USCG-2011-0089 | Vicksburg, MS | Special Local Regulation (Part 100) | 4/16/2011
USCG-2011-0092 | Baltimore County, MD | Security Zone (Part 165) | 2/14/2011
USCG-2011-0102 | St. Petersburg, FL | Safety Zone (Part 165) | 3/24/2011
USCG-2011-0108 | Baltimore, MD | Safety Zone ( Part 165) | 3/3/2011
USCG-2011-0110 | Trainer, PA | Safety Zone (Part 165) | 2/18/2011
USCG-2011-0125 | Sillery Bay, MD | Regulated Navigation Area (Part 165) | 7/23/2011
USCG-2011-0128 | Kingston, NY | Safety Zone (Part 165) | 3/5/2011
USCG-2011-0133 | Miami Beach, FL | Security Zone (Part 165) | 3/4/2011
USCG-2011-0134 | Miami Beach, FL | Security Zone (Part 165) | 3/4/2011
USCG-2011-0135 | Tuscaloosa, AL | Safety Zone (Part 165) | 4/9/2011
USCG-2011-0148 | Kemah, TX | Safety Zone (Part 165) | 4/3/2011
USCG-2011-0148 | Greenwich, CT | Safety Zone (Part 165) | 6/25/2011
USCG-2011-0152 | Tennessee River | Safety Zone (Part 165) | 3/7/2011
USCG-2011-0153 | Lake Havasu City, AZ | Safety Zone (Part 165) | 4/7/2011
USCG-2011-0155 | Tampa, FL | Safety Zone (Part 165) | 4/12/2011
USCG-2011-0161 | Port Everglades, FL | Security Zone (Part 165) | 4/25/2011
USCG-2011-0181 | San Diego, CA | Special Local Regulation (Part 100) | 4/2/2011
USCG-2011-0185 | San Diego, CA | Safety Zone (Part 165) | 4/16/2011
USCG-2011-0191 | Chicago, IL | Safety Zone (Part 165) | 6/30/2011
USCG-2011-0192 | Hampton, VA | Security Zone (Part 165) | 3/18/2011
USCG-2011-0209 | Randalls Island, NY | Security Zone (Part 165) | 3/29/2011
USCG-2011-0210 | Lake Havasu City, AZ | Safety Zone (Part 165) | 4/29/2011
USCG-2011-0213 | Erie Basin, NY | Safety Zone (Part 165) | 6/11/2011
USCG-2011-0217 | Knoxville, TN | Special Local Regulation (Part 100) | 5/15/2011
USCG-2011-0218 | Williamsburg, VA | Security Zone (Part 165) | 4/4/2011
USCG-2011-0220 | Romeoville, IL | Safety Zone (Part 165) | 3/28/2011
USCG-2011-0236 | Guam | Safety Zone (Part 165) | 4/27/2001
USCG-2011-0242 | New London, CT | Security Zone (Part 165) | 5/18/2011
USCG-2011-0248 | Oahu, HI | Safety Zone (Part 165) | 4/4/2011
USCG-2011-0259 | Miami, FL | Safety Zone (Part 165) | 4/9/2011
USCG-2011-0269 | Mobile, AL | Safety Zone (Part 165) | 4/15/2011
USCG-2011-0271 | Wilmington, DE | Safety Zone (Part 165) | 4/12/2011
USCG-2011-0273 | Lake Michigan | Safety and Security Zone (Part 165) | 4/14/2011
USCG-2011-0274 | Chicago, IL | Security Zone (Part 165) | 4/13/2011
USCG-2011-0275 | Chattanooga, TN | Special Local Regulation (Part 100) | 6/11/2011
USCG-2011-0280 | Neches River, TX | Safety Zone (Part 165) | 4/28/2011
USCG-2011-0282 | Lake Michigan | Safety and Security Zone (Part 165) | 4/27/2011
USCG-2011-0283 | Chicago, IL | Security Zone (Part 165) | 4/13/2011
USCG-2011-0290 | Mississippi River | Safety Zone (Part 165) | 4/16/2011
USCG-2011-0293 | Cameron, LA | Safety Zone (Part 165) | 4/15/2011
USCG-2011-0294 | Anna Maria, FL | Safety Zone (Part 165) | 5/14/2011
USCG-2011-0295 | San Francisco, CA | Special Local Regulation (Part 100) | 5/1/2011
USCG-2011-0296 | Cameron, LA | Safety Zone (Part 165) | 4/16/2011
USCG-2011-0307 | Mobile, AL | Safety Zone (Part 165) | 4/20/2011
USCG-2011-0309 | San Diego, CA | Safety Zone (Part 165) | 5/9/2011
USCG-2011-0320 | Ohio River | Safety Zone (Part 165) | 4/22/2011
USCG-2011-0323 | Humboldt Bay, CA | Security Zone (Part 165) | 5/15/2011
USCG-2011-0326 | Clearwater, FL | Safety Zone (Part 165) | 5/6/2011
USCG-2011-0329 | Pittsburgh, PA | Special Local Regulation (Part 100) | 5/21/2011
USCG-2011-0331 | Gulfport, MS | Safety and Security Zone (Part 165) | 5/21/2011
USCG-2011-0337 | Lake Charles, LA | Safety Zone (Part 165) | 4/26/2011
USCG-2011-0339 | Port Savannah Zone, GA | Safety Zone (Part 165) | 5/3/2011
USCG-2011-0339 | Port Savannah Zone, GA | Safety Zone (Part 165) | 5/3/2011
USCG-2011-0340 | Cumberland River | Safety Zone (Part 165) | 4/27/2011
USCG-2011-0343 | Miami, FL | Security Zone (Part 165) | 4/29/2011
USCG-2011-0344 | St. Petersburg, FL | Safety Zone (Part 165) | 5/21/2011
USCG-2011-0345 | Bradenton, FL | Safety Zone (Part 165) | 6/26/2011
USCG-2011-0346 | Ft. Walton Beach, FL | Safety Zone (Part 165) | 6/3/2011
USCG-2011-0349 | Upper Mississippi River | Safety Zone (Part 165) | 4/28/2011
USCG-2011-0361 | Hudson River, New York | Special Local Regulation (Part 100) | 7/4/2011
USCG-2011-0362 | NY, New York | Safety Zone (Part 165) | 7/4/2011
USCG-2011-0364 | Guam | Safety Zone (Part 165) | 5/17/2011
USCG-2011-0365 | San Francisco, CA | Safety Zone (Part 165) | 6/10/2011
USCG-2011-0376 | Nevada, NV | Safety Zone (Part 165) | 5/29/2011
USCG-2011-0376 | Nevada, NV | Safety Zone (Part 165) | 7/3/2011
USCG-2011-0379 | Guam | Safety Zone (Part 165) | 5/29/2011
USCG-2011-0380 | Guam | Safety Zone (Part 165) | 5/26/2011
USCG-2011-0381 | Pittsburgh, PA | Safety Zone (Part 165) | 5/13/2011
USCG-2011-0382 | Wellsburg, WV | Safety Zone (Part 165) | 7/4/2011
USCG-2011-0386 | Lake Havasu City, AZ | Safety Zone (Part 165) | 5/31/2011
USCG-2011-0388 | LMR MM 844-849 | Safety Zone (Part 165) | 5/5/2011
USCG-2011-0411 | Charleston, WV | Safety Zone (Part 165) | 5/24/2011
USCG-2011-0418 | San Diego, CA | Safety Zone (Part 165) | 7/4/2011
USCG-2011-0419 | Point Pleasant, NJ | Safety Zone (Part 165) | 5/14/2011
USCG-2011-0421 | Pittsburgh, PA | Security Zone (Part 165) | 5/19/2011
USCG-2011-0446 | Crescent City, CA | Safety Zone (Part 165) | 7/4/2011
USCG-2011-0454 | Glenbrook, NV | Safety Zone (Part 165) | 7/4/2011
USCG-2011-0457 | Point Pleasant, NJ | Safety Zone (Part 165) | 5/21/2011
USCG-2011-0469 | Portland, ME | Safety Zone (Part 165) | 6/8/2011
USCG-2011-0472 | Point Pleasant, NJ | Safety Zone (Part 165) | 6/6/2011
USCG-2011-0476 | Hampton Bays, NY | Security Zone (Part 165) | 5/27/2011
USCG-2011-0477 | Boston, MA | Safety Zone (Part 165) | 6/7/2011
USCG-2011-0478 | Manhattan, NY | Safety Zone (Part 165) | 6/13/2011
USCG-2011-0479 | Chattanooga, TN | Safety Zone (Part 165) | 6/18/2011
USCG-2011-0480 | Bronx, NY | Drawbridge Operation Regulation (Part 117) | 6/20/2011
USCG-2011-0483 | Hampton Bays, NY | Security Zone (Part 165) | 5/30/2011
USCG-2011-0488 | Washington, DC | Special Local Regulation (Part 100) | 6/18/2011
USCG-2011-0506 | Pittsburgh, PA | Safety Zone (Part 165) | 6/12/2011
USCG-2011-0510 | Toledo, OH | Security Zone (Part 165) | 6/20/2011
USCG-2011-0514 | Buffalo, NY | Safety Zone (Part 165) | 6/11/2011
USCG-2011-0518 | Erie, PA | Safety Zone (Part 165) | 6/18/2011
USCG-2011-0519 | Baltimore, MD | Safety Zone (Part 165) | 6/18/2011
USCG-2011-0526 | Lake of the Ozarks | Safety Zone (Part 165) | 7/2/2011
USCG-2011-0527 | Allegheny County, PA | Safety Zone (Part 165) | 6/13/2011
USCG-2011-0531 | Miami, FL | Security Zone (Part 165) | 6/13/2011
USCG-2011-0535 | Elgin, IL | Safety Zone (Part 165) | 6/17/2011
USCG-2011-0541 | Key West, FL | Safety Zone (Part 165) | 6/10/2011
USCG-2011-0569 | San Diego, CA | Safety Zone (Part 165) | 7/4/2011
USCG-2011-0570 | San Diego, CA | Safety Zone (Part 165) | 7/4/2011
USCG-2011-0571 | San Diego, CA | Safety Zone (Part 165) | 7/4/2011
USCG-2011-0572 | Ellison Bay, WI | Safety Zone (Part 165) | 6/25/2011
USCG-2011-0580 | Chicago, IL | Security Zone (Part 165) | 6/17/2011
USCG-2011-0582 | Kendall, NY | Safety Zone (Part 165) | 7/2/2011
USCG-2011-0592 | Atlantic City, NJ | Drawbridge Operation Regulation (Part 117) | 7/4/2011
USCG-2011-0593 | Augusta, GA | Safety Zone (Part 165) | 7/2/2011
USCG-2011-0599 | Oswego, NY | Safety Zone (Part 165) | 7/3/2011
USCG-2011-0600 | Hamlin, NY | Safety Zone (Part 165) | 7/2/2011
USCG-2011-0602 | Alexandria Bay, NY | Safety Zone (Part 165) | 7/4/2011
USCG-2011-0603 | Tonawanda, NY | Safety Zone (Part 165) | 7/4/2011
USCG-2011-0604 | Youngstown, NY | Safety Zone (Part 165) | 7/3/2011
USCG-2011-0605 | Buffalo, NY | Safety Zone (Part 165) | 7/4/2011
USCG-2011-0606 | Bay Village, OH | Safety Zone (Part 165) | 7/4/2011
USCG-2011-0607 | Cleveland, OH | Safety Zone (Part 165) | 7/4/2011
USCG-2011-0610 | Sackets Harbor, NY | Safety Zone (Part 165) | 7/4/2011
USCG-2011-0611 | Clayton, NY | Safety Zone (Part 165) | 7/3/2011
USCG-2011-0612 | Olcott, NY | Safety Zone (Part 165) | 7/3/2011
USCG-2011-0613 | Syracuse, NY | Safety Zone (Part 165) | 7/1/2011
USCG-2011-0620 | Lapointe, WI | Safety Zone (Part 165) | 7/4/2011
USCG-2011-0621 | Duluth, MN | Safety Zone (Part 165) | 7/4/2011
USCG-2011-0622 | Cornucopia, WI | Safety Zone (Part 165) | 7/2/2011
USCG-2011-0623 | Bayfield, WI | Safety Zone (Part 165) | 7/4/2011
USCG-2011-0624 | Upper Mississippi River | Security Zone (Part 165) | 6/28/2011
USCG-2011-0634 | Burlington, VT | Security Zone (Part 165) | 6/30/2011
USCG-2011-0643 | Mentor, OH | Safety Zone (Part 165) | 7/3/2011
USCG-2011-0645 | Mantoloking, NJ | Safety Zone (Part 165) | 7/1/2011
USCG-2011-0647 | Grosse Pointe Shores, MI | Safety Zone (Part 165) | 7/8/2011
USCG-2011-0655 | Lewes, DE | Safety Zone (Part 165) | 7/1/2011
USCG-2011-0656 | Sheffield Lake, OH | Safety Zone (Part 165) | 7/15/2011
USCG-2011-0657 | Baldwinsville, NY | Safety Zone (Part 165) | 7/8/2011
USCG-2011-0661 | Cape Vincent, NY | Safety Zone (Part 165) | 7/9/2011
USCG-2011-0663 | Atlantic City, NJ | Safety Zone (Part 165) | 7/4/2011

[FR Doc. 2011-28887 Filed 11-10-11; 8:45 am]

BILLING CODE 9110-04-P